DEPARTMENT OF HEALTH AND HUMAN SERVICES

Administration for Children and Families

Submission for OMB Review; Comment Request

Title: Application Requirements for the Low Income Home Energy Assistance Program (LIHEAP) Plan.

OMB No.: 0970-0075.

Description: States, including the District of Columbia, tribes, tribal organizations, and U.S. territories applying for LIHEAP block grant funds must, prior to receiving federal funds, submit an annual application (Model Plan, ACF-122) that meets the LIHEAP statutory and regulatory requirements. In addition to the Model Plan, grantees are also required to complete the Mandatory Grant Application SF-424-Mandatory, which is the first section of the Model Plan.

The LIHEAP Model Plan is an electronic form and is submitted to the Administration for Children and Families (ACF), Office of Community Services (OCS) through the On-line Data Collection (OLDC) system within GrantSolutions, which is currently being used by all LIHEAP grantees to submit other required LIHEAP reporting forms. In order to reduce the reporting burden, all data entries from each grantee's prior year's submission of the Model Plan in OLDC is saved and re-populated (cloned) into the form for the following fiscal year's application.

OCS seeks renewal of this form without any changes. A sample model plan showing these proposed changes can be found on the U.S. Department of Health and Human Services, ACF/OCS LIHEAP Program Resources page at: https://www.acf.hhs.gov/ocs/resource/funding-applications.

On April 3, 2017, ACF published a Federal Register Notice seeking 60 days of public comment on this proposed information collection. One state grantee provided comments. ACF revised the Plan to address the comments by ensuring that open field boxes and attachment capability are available if the answer choices are insufficient to address the questions.

The revised model plan can be viewed on the OCS Web site at: http://www.acf.hhs.gov/programs/ocs/programs/liheap.

Respondents: State, the District of Columbia, U.S. Territories and Tribal governments.

Annual Burden Estimates
Instrument | Number of respondents | Number of responses per respondent | Average burden hours per response | Total burden hours
LIHEAP Detailed Model Plan | 210 | 1 | 0.50 | 105

Estimated Total Annual Burden Hours (all respondents): 105.

Additional Information: Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2017-17681 Filed 8-21-17; 8:45 am]

BILLING CODE 4184-01-P